DEPARTMENT OF LABOR

Employment and Training Administration

[TA-W-64,494, etc.]

Chrysler LLC, Kokomo Transmission Plant, Powertrain Division, Including On-Site Leased Workers From Aerotek, American Food & Vending and Wackenhut Security, Kokomo, IN, et al.; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 15, 2008, applicable to workers of Chrysler LLC, Kokomo Transmission Plant, Powertrain Division, Kokomo, Indiana, Chrysler LLC, Indiana Transmission Plants 1 and 2, Powertrain Division, Kokomo, Indiana, and Chrysler LLC, Kokomo Casting Plant, TCMA Division, Kokomo, Indiana. The notice was published in the Federal Register on January 14, 2009 (74 FR 2136).

At the request of the State agency, the Department reviewed the certification for workers of the subject firm. The workers are engaged in the production of aluminum transmissions, cases and component parts.

New information shows that workers leased from Aerotek, American Food & Vending, and Wackenhut Security were employed on-site at the Kokomo, Indiana locations of the above mentioned plants of Chrysler LLC.

The Department has determined that these workers were sufficiently under the control of Chrysler LLC, Kokomo Transmission, Indiana Transmission Plants 1 & 2, and Kokomo Casting Plant to be considered leased workers.

Based on these findings, the Department is amending this certification to include workers leased from Aerotek, American Food & Vending and Wackenhut Security working on-site at the Kokomo, Indiana locations of the subject firm.

The amended notice applicable to TA-W-64,494 is hereby issued as follows:

“All workers of Chrysler LLC, Kokomo Transmission Plant, Powertrain Division, including on-site leased workers from Aerotek, American Food & Vending and Wackenhut Security, Kokomo, Indiana (TA-W-64,494), Chrysler LLC, Indiana Transmission Plants 1 & 2, Powertrain Division, including on-site leased workers from Aerotek, American Food & Vending and Wackenhut Security, Kokomo, Indiana (TA-W-64,494A), and Chrysler LLC, Kokomo Casting Plant, TCMA Division, including on-site leased workers from Aerotek, American Food & Vending and Wackenhut Security, Kokomo, Indiana (TA-W-64,494B), who became totally or partially separated from employment on or after November 14, 2007 through December 15, 2010, are eligible to apply for adjustment assistance under Section 223 of the Trade Act of 1974, and are also eligible to apply for alternative trade adjustment assistance under Section 246 of the Trade Act of 1974.”

Signed at Washington, DC, this 23rd day of March 2009.
Linda G. Poole,
Certifying Officer, Division of Trade Adjustment Assistance.

[FR Doc. E9-7099 Filed 3-30-09; 8:45 am]

BILLING CODE 4510-FN-P